DEPARTMENT OF TRANSPORTATION

Pipeline and Hazardous Materials Safety Administration

[Docket No. PHMSA-2009-0019 (Notice No. 09-7)]

Information Collection Activities

AGENCY: Pipeline and Hazardous Materials Safety Administration (PHMSA), DOT.

ACTION: Notice of information collection approval.

SUMMARY: This notice announces Office of Management and Budget (OMB) approval and extension until September 30, 2012, for the following information collection request (ICR): OMB Control No. 2137-0051, “Rulemaking, Special Permits, and Preemption Requirements.”

This notice announces OMB approval and extension until November 30, 2012, for the following ICR: OMB Control No. 2137-0613, “Subsidiary Hazard Class and Number/Type of Packagings.”

This notice announces OMB approval and extension until January 31, 2013 for the following ICR: OMB Control No. 2137-0510, “Radioactive (RAM) Transportation Requirements.”

DATE: The expiration dates for these ICRs are either September 30, 2012, November 30, 2012, or January 31, 2013 as indicated under the SUPPLEMENTARY INFORMATION section of this notice.

ADDRESSES: Requests for a copy of an information collection should be directed to Deborah Boothe or Steven Andrews, Office of Hazardous Materials Standards (PHH-10), Pipeline and Hazardous Materials Safety Administration, 1200 New Jersey Avenue, SE., Washington, DC 20590-0001.

FOR FURTHER INFORMATION CONTACT: Deborah Boothe or Steven Andrew, Office of Hazardous Materials Standards (PHH-10), Pipeline and Hazardous Materials Safety Administration, 1200 New Jersey Avenue, SE., Washington, DC 20590-0001, Telephone (202) 366-8553.

SUPPLEMENTARY INFORMATION: Office of Management and Budget (OMB) regulations (5 CFR part 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for renewal of the following ICRs:

OMB Control Number: 2137-0051.

Title: “Rulemaking, Special Permits, and Preemption Requirements.”

Expiration Date: September 30, 2012.

OMB Control Number: 2137-0613.

Title: “Subsidiary Hazard Class and Number/Type of Packagings.”

Expiration Date: November 30, 2012.

OMB Control Number: 2137-0510.

Title: “Radioactive (RAM) Transportation Requirements.”

Expiration Date: January 31, 2013.

Issued in Washington, DC, on January 29, 2010.
Edward T. Mazzullo,
Director, Office of Hazardous Materials Standards.

[FR Doc. 2010-2306 Filed 2-2-10; 8:45 am]

BILLING CODE 4910-60-P